DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed three-year extension to the petroleum survey forms listed below:

EIA-14, “Refiners” Monthly Cost Report”;

EIA-182, “Domestic Crude Oil First Purchase Report”;

EIA-782A, “Refiners'/Gas Plant Operators” Monthly Petroleum Product Sales Report”;

EIA-782B, “Resellers'/Retailers” Monthly Petroleum Product Sales Report”;

EIA-782C, “Monthly Report of Petroleum Products Sold Into States for Consumption”;

EIA-821, “Annual Fuel Oil and Kerosene Sales Report”;

EIA-856, “Monthly Foreign Crude Oil Acquisition Report”;

EIA-863, “Petroleum Product Sales Identification Survey”;

EIA-877, “Winter Heating Fuels Telephone Survey”;

EIA-878, “Motor Gasoline Price Survey”;

EIA-888, “On-Highway Diesel Fuel Price Survey.”

DATES: Comments must be filed by May 27, 2003. If you anticipate difficulty in submitting comments within that period, contact the person listed below as soon as possible.

ADDRESSES: Send comments to Jacob Bournazian, EI-42, Energy Information Administration, U.S. Department of Energy, 1000 Independence Avenue, SW., Washington DC 20585-0650. To ensure receipt of the comments by the due date, submission by FAX (202) 586-4913 or e-mail (jacob.bournazian@eia.doe.gov) is recommended. The mailing address is Petroleum Division, EI-42, Forrestal Building, U.S. Department of Energy, Washington, DC 20585. Alternatively, Jacob Bournazian may be contacted by telephone at (202) 586-1256.

FOR FURTHER INFORMATION CONTACT: Requests for additional information or copies of any forms and instructions should be directed to Jacob Bournazian at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The petroleum marketing survey forms collect volumetric and price information needed for determining the supply of and demand for crude oil and refined petroleum products. These surveys provide a basic set of data pertaining to the structure, efficiency, and behavior of petroleum markets. These data are published by the EIA on its Web site, http://www.eia.doe.gov, as well as in publications such as the Monthly Energy Review, Annual Energy Review, Petroleum Marketing Monthly, Petroleum Marketing Annual, Weekly Petroleum Status Report, and the International Energy Outlook. EIA also maintains a 24-hour telephone hotline number, (202) 586-6966, for the public to obtain retail price estimates for on-highway diesel fuel and motor gasoline.

II. Current Actions

EIA will be requesting a three-year extension of approval to its petroleum marketing surveys with the following survey changes. The Form EIA-14 currently collects, at the national level, the weighted cost of crude oil as it is booked into the refinery. EIA proposes to collect this same price data at the Petroleum Administration for Defense District (PADD) level for more accurate measurement of refiner costs at the regional level.

Form EIA-182 collects data on the weighted average wellhead prices paid by the first purchasers to the crude oil producers. EIA proposes to consolidate low volume crude streams and begin publishing new crude streams which are supported by data. The smaller volume crude streams that EIA proposes to delete are not publishable at the state level. Proposed changes to the following states and areas are described below:

California: Delete the data collection elements for Huntington Beach, San Ardo, and Ventura crude streams and begin collection of the following new crude streams: Coalinga, Cymric, and Lost Hills.

California Outer Continental Shelf: Begin data collection on the Pescado crude stream.

Gulf Coast: Delete the data collection elements for Texas Gulf Refugio and Louisiana South Mix crude streams and begin collection on the following six (6) new streams: Louisiana Light Sweet, Heavy Louisiana Sweet, Mars Blend, Eugene Island, HOOPS blend, and High Island.

Oklahoma: Delete the data collection elements for Oklahoma Cement and Oklahoma Garber and begin collection of the Oklahoma Sweet crude stream.

Texas: Delete the data collection elements for Texas Hawkins crude stream and begin collection of the following four (4) crude streams: Panhandle, North Texas Sweet, and South Texas Sweet, and West Central Texas.

Form EIA-782C collects data on the sales of various refined petroleum products into states where the product is ultimately used. EIA proposes to delete naphtha-type jet fuel as a data element to Form EIA-782C based on the declining sales for this product over the past 10 years.

III. Request for Comments

Prospective respondents and other interested parties should comment on the actions discussed in item II. Please indicate to which form(s) your comments apply. Your comments should address your use of data and how the proposed changes impact your data needs.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average:

EIA-14, “Refiners” Monthly Cost Report” (1.6 hours per response);

EIA-182, “Domestic Crude Oil First Purchase Report” (4.3 hours per response);

EIA-782A, “Refiners'/Gas Plant Operators' Monthly Petroleum Product Sales Report” (15 hours per response);

EIA-782B, “Resellers'/Retailers’ Monthly Petroleum Product Sales Report” (2.5 hours per response);

EIA-782C, “Monthly Report of Petroleum Products Sold Into States for Consumption” (2.1 hours per response);

EIA-821, “Annual Fuel Oil and Kerosene Sales Report” (3.2 hours per response);

EIA-856, “Monthly Foreign Crude Oil Acquisition Report” (6.1 hours per response);

EIA-863, “Petroleum Product Sales Identification survey” (1 hour per response);

EIA-877, “Winter Heating Fuels Telephone Survey” (.1 hour per response);

EIA-878, “Motor Gasoline Price Survey” (.05 hours per response);

EIA-888, “On-Highway Diesel Fuel Price Survey” (.05 hours per response).

The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information to be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, March 19, 2003.
Jay H. Casselberry,
Agency Clearance Officer, Statistics and Methods Group, Energy Information Administration.

[FR Doc. 03-7026 Filed 3-24-03; 8:45 am]

BILLING CODE 6450-01-P